NATIONAL SCIENCE FOUNDATION

Advisory Committee for Polar Programs; Notice of Meeting

In accordance with the Federal Advisory Committee Act (Pub. L. 92-463, as amended), the National Science Foundation (NSF) announces the following meeting:

Name and Committee Code: Advisory Committee for Polar Programs (1130).

Date and Time: May 1, 2019; 9:00 a.m.-5:00 p.m., May 2, 2019; 9:00 a.m.-3:00 p.m.

Place: National Science Foundation, 2415 Eisenhower Avenue, Alexandria, Virginia 22314, Room 2010.

Type of Meeting: Open.

Contact Person: Andrew Backe, National Science Foundation, Room W 7237, 2415 Eisenhower Avenue, Alexandria, Virginia 22314; Phone 703-292-2454.

Minutes: May be obtained from the contact person listed above.

Purpose of Meeting: To provide advice and recommendations to the National Science Foundation concerning support for polar research, education, infrastructure and logistics, and related activities.

Agenda

May 1, 2019; 9:00 a.m.-5:00 p.m.

• Opening Remarks and Introductions

• Antarctic Treaty

• Polar Cyberinfrastructure

• Arctic Portfolio Review Subcommittee Report

• Polar Research Vessel Requirements Subcommittee Report

• Safety Discussion

• IARPC Principles Document

• USAP Communications & Community Outreach Charter

• Astrophysics Decadal Process Update

May 2, 2019; 9:00 a.m.-3:00 p.m.

• Polar Advisory Overview Document

• Joint Session with AC-MPS

• Meeting with the NSF COO

• Wrap-up and Actions

Dated: March 26, 2019.
Crystal Robinson,
Committee Management Officer.

[FR Doc. 2019-06076 Filed 3-28-19; 8:45 am]

BILLING CODE 7555-01-P